DEPARTMENT OF DEFENSE

Office of the Secretary of Defense

Termination of Federal Advisory Committee

AGENCY: Department of Defense.

ACTION: Notice.

SUMMARY: Under the provisions of the Federal Advisory Committee Act of 1972, (5 U.S.C. Appendix, as amended), the Government in the Sunshine Act of 1976 (5 U.S.C. 552b, as amended), and 41 CFR 102-3.65, the Department of Defense gives notice that it is terminating the United States European Command Senior Advisory Group as of September 30, 2008. The United States European Command Senior Advisory Group is a discretionary federal advisory committee that is being terminated pursuant to section 906(b) of Public Law 110-181.

FOR FURTHER INFORMATION CONTACT: Frank Wilson, DoD Committee Management Officer, 703-601-2554.

Dated: October 15, 2008.
Patricia L. Toppings,
OSD Federal Register Liaison Officer, Department of Defense.

[FR Doc. E8-25305 Filed 10-22-08; 8:45 am]

BILLING CODE 5001-06-P